DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Community Mental Health Services Block Grant Application Guidance and Instructions, FY 2009-2011 (OMB No. 0930-0168)—Revision

Sections 1911 through 1920 of the Public Health Service Act (42 U.S.C. 300x through 300x-9) provide for annual allotments to assist States to establish or expand an organized, community-based system of care for adults with serious mental illnesses and children with serious emotional disturbances. Under these provisions of the law, States may receive allotments only after an application is submitted and approved by the Secretary of the Department of Health and Human Services.

On January 28, 2008, SAMHSA published a request for public comment on its proposed guidance and instructions to the States to guide development of comprehensive State applications/plans and implementation reports for FY 2009-2011. Proposed revisions to the guidance included:

(1) Streamlining the process for reporting States' use of the block grant to support mental health transformation, including narrowing from 20 to 6 the number of transformation categories for which States are asked to provide the amount of funding that will be used to support specific transformation activities and limiting reporting to block grant funds only.

(2) Reorganizing and consolidating sections of the guidance to improve readability and clarity and to reduce redundancy.

(3) Eliminating Table 18 from the Uniform Reporting System (URS) tables that States must submit.

(4) Eliminating the requirement that States complete a State-Level Reporting Capacity Checklist for submission to the State Data infrastructure Coordinating Center.

SAMHSA received formal comments from seven commenters. Most of the comments supported the changes described below, and several commended SAMHSA for appointing a Federal-State working group to address concerns raised by the States regarding the FY 2008 guidance and instructions. A summary of the comments and SAMHSA's response is provided below.

Request for clarification regarding reporting transformation expenditures under Table C. Two commenters noted that, while they supported the proposed revisions to streamline the reporting of transformation expenditures, their State fiscal processes did not support tracking and reporting expenditures in this manner. One commenter requested clarification that a State would “not be held” to expenditure estimates provided in the application.

The transformation expenditures requested under Table C are an essential component of the application guidance, as they provide important information to SAMHSA regarding States' use of the block grant to support mental health transformation. SAMHSA clarifies that the transformation expenditures requested to be reported under Table C of the application may be reported as estimates if the State cannot provide actual expenditures and that States are not obligated to expend funds in the categories indicated or to track and justify their expenditures consistent with these estimates. No change to the guidance is needed to provide this clarification.

Request for clarification regarding allowable uses of the block grant for research and evaluation. As published in the January 28, 2008 Federal Register, Table C requested that States estimate their expenditures to support the transformation goal “Research is Accelerated.” One commenter accurately noted that research is not an allowable expenditure under the block grant statute, and requested that this goal be revised to read “Program Evaluation is Accelerated.” SAMHSA incorporated this revision in the guidance submitted for OMB review.

Request for clarification regarding the difference between the State Transformation Outcome Measure and other Outcome Measures requested in the application guidance. As stated in the proposed guidance, each State is required to submit a Transformation Outcome Measure in addition to all required National Outcome Measures (NOMS). The Transformation Outcome Measure is selected by the State to reflect its own priorities. However, the Transformation Outcome Measure may be the same measure as one of the NOMS. No change to the guidance is needed to provide this clarification.

Request that the submission date for the application be changed from September 1 to December 1 to coincide with submission of the State Implementation Report. As the commenter acknowledged, the submission dates for the application and Implementation Report are established in statute, and cannot be changed through the administrative process of revising the application guidance and instructions. Thus, no changes to the guidance are incorporated to address this concern.

Request for clarification regarding whether States should report the number of clients or the percent of clients receiving Evidence Based Practices (EBPs). One commenter notes a discrepancy in the application regarding whether the number or percent of clients receiving EBPs should be reported. Appendix I was revised to clarify that the percent of clients receiving EBPs should be reported. Additional clarifying revisions were made to Appendix I regarding the specific numerators and denominators that States should use to calculate NOMS.

With the streamlining of information regarding State mental health transformation activities, elimination of URS Table 18 as a requirement for reporting, and other improvements to the MHBG guidance, it was determined that the annual burden for the revised application was reduced by 15 hours per State. The following table summarizes the annual burden for the revised application.

Application | Number of respondents | Responses/ respondent | Burden response (hrs) | Total burden hours
1 Yr. Plan | 44 | 1 | 175 | 7,700
2 Yr. Plan | 6 | 1 | 145 | 870
3 Yr. Plan | 9 | 1 | 105 | 945
Implementation Report | 59 | 1 | 70 | 4,130
URS Tables | 59 | 1 | 35 | 2,065
Total | 59 |  |  | 15,710

Written comments and recommendations concerning the proposed information collection should be sent by June 4, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: April 28, 2008.
Elaine Parry,
Acting Director, Office of Program Services.

[FR Doc. E8-9788 Filed 5-2-08; 8:45 am]

BILLING CODE 4162-20-P